FARM CREDIT ADMINISTRATION

Farm Credit Administration Board; Sunshine Act; Special Meeting

AGENCY: Farm Credit Administration.

SUMMARY: Notice is hereby given, pursuant to the Government in the Sunshine Act, of the special meeting of the Farm Credit Administration Board (Board).

DATE AND TIME: The special meeting of the Board was held at the offices of the Farm Credit Administration in McLean, Virginia, on June 19, 2013, from 4:00 p.m. until such time as the Board concludes its business.

FOR FURTHER INFORMATION CONTACT: Dale L. Aultman, Secretary to the Farm Credit Administration Board, (703) 883-4009, TTY (703) 883-4056.

ADDRESSES: Farm Credit Administration, 1501 Farm Credit Drive, McLean, Virginia 22102-5090.

SUPPLEMENTARY INFORMATION: This meeting will be closed to the public. The matters to be considered at the meeting are:

Closed Session *

Motion to:

• Call the special meeting with less than one-week public announcement

• Approve Agenda

• Hold a Closed Session under the Government in the Sunshine Act

• Appoint an Agency Official

Dated: June 20, 2013.
Dale L. Aultman,
Secretary, Farm Credit Administration Board.

* Session Closed-Exempt pursuant to 5 U.S.C. 552b(c)(2).

[FR Doc. 2013-15216 Filed 6-21-13; 11:15 am]

BILLING CODE 6705-01-P